DEPARTMENT OF HEALTH AND HUMAN SERVICES

45 CFR Part 95

Administration for Children and Families

45 CFR Parts 1355 and 1356

RIN 0970-AC59

Comprehensive Child Welfare Information System

AGENCY: Administration on Children, Youth and Families (ACYF), Administration for Children and Families (ACF), Department of Health and Human Services (HHS).

ACTION: Notice; Reopening of Comment Period.

SUMMARY: The Administration for Children and Families reopens the comment period for the notice of proposed rulemaking entitled, “Comprehensive Child Welfare Information System.” We take this action to respond to requests from the public for more time to submit comments. The notice of proposed rulemaking and our request for comments appeared in the Federal Register on August 11, 2015. We initially set October 13, 2015 as the deadline for the comment period. The Web site for submitting public comments, http://www.regulations.gov, experienced technical difficulties and was unavailable for periods of time during the several days prior to this deadline and many commenters reported difficulty submitting their comments using this mechanism. To allow the public more time, we are reopening the comment period for an additional 7 days.

DATES: ACF reopens the comment period for notice of proposed rulemaking entitled, “Comprehensive Child Welfare Information System” published on August 11, 2015 (80 FR 48200). Submit either electronic or written comments by November 12, 2015.

ADDRESSES: Follow online instructions at www.regulations.gov to submit comments. This approach is our preferred method for receiving comments. An electronic version of the NPRM is available for download on http://www.regulations.gov. Interested persons may submit written comments regarding this NPRM via regular postal mail to Terry Watt, Director, Division of State Systems, Children's Bureau, Administration on Children, Youth and Families, Administration for Children and Families, 1250 Maryland Avenue SW., 8th Floor, Washington, DC 20024. If you choose to use an express, overnight, or other special delivery method, please ensure that the carrier will deliver to the above address Monday through Friday during the hours of 9 a.m. to 5 p.m., excluding holidays.

FOR FURTHER INFORMATION CONTACT: Terry Watt, Director, Division of State Systems, Children's Bureau, Administration on Children, Youth, and Families, (202) 690-8177 or by email at Terry.Watt@acf.hhs.gov. Do not email comments on the NPRM to this address. Deaf and hearing impaired individuals may call the Federal Dual Party Relay Service at 1-800-877-8339 between 8 a.m. and 7 p.m. Eastern Time.

SUPPLEMENTARY INFORMATION: HHS published the Comprehensive Child Welfare Information System notice of proposed rulemaking in the Federal Register on August 11, 2015 (80 FR 48200) with a deadline for public comments on October 13, 2015. In response to requests for more time from the public, we are reopening the comment period for 7 days beginning November 12, 2015.

Mark H. Greenberg,
Acting Assistant Secretary for Children and Families.
Approved: October 27, 2015.
Sylvia M. Burwell,
Secretary.

[FR Doc. 2015-28057 Filed 11-3-15; 8:45 am]

BILLING CODE 4150-28-P